DEPARTMENT OF ENERGY

Federal Energy Regulatory Commission

[Docket No. CP15-93-000; Docket No. CP15-94-000; Docket No. CP15-96-000]

Rover Pipeline, LLC; Panhandle Eastern Pipe Line Company, LP; Trunkline Gas Company, LLC; Notice of Public Meetings for Comments on the Draft Environmental Impact Statement for the Proposed Rover Pipeline, Panhandle Backhaul, and Trunkline Backhaul Projects

On February 19, 2016 the staff of the Federal Energy Regulatory Commission (FERC or Commission) issued a draft environmental impact statement (EIS) for the Rover Pipeline, Panhandle Backhaul, and Trunkline Backhaul Projects (Projects). The draft EIS assesses the potential environmental effects of the construction and operation of the Projects in accordance with the requirements of the National Environmental Policy Act (NEPA). The draft EIS was mailed to the parties on the Commission's environmental mailing list and placed on the FERC's Web site (www.ferc.gov).

The Commission invites you to attend one of the public comment meetings its staff will conduct in the Projects' area to receive verbal comments on the draft EIS, scheduled as follows:

Date | Location
Monday, March 21, 2016 | Patrick Henry Middle School, 7 E-050 Rd., Hamler, OH 43524, (419) 274-3431.
Tuesday, March 22, 2016 | Fayette High School, 400 Gamble Rd., Fayette, OH 43521, (419) 237-2114.
Wednesday, March 23, 2016 | Chelsea High School, 740 N. Freer Rd., Chelsea, MI 48118, (734) 433-2201.
Monday, April 4, 2016 | Barker Memorial Building, 214 North 4th Avenue, Paden City, WV 26159, (304) 771-2280.
Tuesday, April 5, 2016 | Harrison Central High School, 440 East Market Street, Cadiz, OH 43907, (740) 942-7700.
Wednesday, April 6, 2016 | Buckeye Central High School, 938 Kibler St., New Washington, OH 44854, (419) 492-2266.
Thursday, April 7, 2016 | Fairless High School, 11885 Navarre Rd. SW., Navarre, OH 44662, (330) 767-3444.

We will begin our sign up of speakers at 5:30 p.m. The comments meetings will begin at 6:00 p.m. with a description of our environmental review process by Commission staff, after which speakers will be called. The meetings will end once all speakers have provided their comments or at 10 p.m., whichever comes first. Please note that there may be a time limit of three minutes to present comments, and speakers should structure their comments accordingly. If time limits are implemented, they will be strictly enforced to ensure that as many individuals as possible are given an opportunity to comment. The meetings will be recorded by a court reporter to ensure comments are accurately recorded. Transcripts will be entered into the formal record of the Commission proceeding.

You do not need to attend one of the above comment meetings to provide comment to the Commission on the draft EIS. For your convenience, there are three additional methods you can use to submit your comments to the Commission. The Commission will provide equal consideration to all comments received, whether filed in written form or provided verbally. The Commission encourages electronic filing of comments and has expert staff available to assist you at (202) 502-8258 or efiling@ferc.gov. Please carefully follow these instructions so that your comments are properly recorded.

(1) You can file your comments electronically using the eComment feature on the Commission's Web site (www.ferc.gov) under the link to Documents and Filings. This is an easy method for submitting brief, text-only comments on a project;

(2) You can file your comments electronically by using the eFiling feature on the Commission's Web site (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the applicable project docket number (CP15-93-000, CP15-94-000, or CP15-96-000) with your submission: Kimberly D. Bose, Secretary, Federal Energy Regulatory Commission, 888 First Street NE., Room 1A, Washington, DC 20426.

To ensure consideration of your comments on the proposals in the final EIS, it is important that the Commission receive your comments on or before April 11, 2016. Please take note that on February 26, 2016, Commission staff issued a correction to Appendix I-1 of the EIS and placed the document in the public record under accession number 20160226-3005.

Questions?

Additional information about the projects is available from the Commission's Office of External Affairs, at (866) 208-FERC, or on the FERC Web site (www.ferc.gov) using the eLibrary link. Click on the eLibrary link, click on “General Search,” and enter the docket number excluding the last three digits in the Docket Number field (i.e., CP15-93, CP15-94, or CP15-96). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to www.ferc.gov/docs-filing/esubscription.asp.

Dated: February 29, 2016.
Nathaniel J. Davis, Sr.,
Deputy Secretary.

[FR Doc. 2016-05498 Filed 3-10-16; 8:45 am]

BILLING CODE 6717-01-P